DEPARTMENT OF TRANSPORTATION

Federal Aviation Administration

14 CFR Part 39

[Docket No. 2001-NM-381-AD]

RIN 2120-AA64

Airworthiness Directives; Airbus Model A330-200, A330-300, A340-200, and A340-300 Series Airplanes

AGENCY: Federal Aviation Administration, Department of Transportation (DOT).

ACTION: Supplemental notice of proposed rulemaking (NPRM); reopening of comment period.

SUMMARY: This document revises an earlier proposed airworthiness directive (AD), applicable to all Airbus Model A330, A340-200, and A340-300 series airplanes. The original NPRM would have required repetitive inspections for discrepancies of the grease and gear teeth of the radial variable differential transducer of the nose wheel steering gearbox; or repetitive inspections for damage of the chrome on the bearing surface of the nose landing gear (NLG) main fitting barrel; as applicable. And, for airplanes with any discrepancy or damage, the original NPRM would have required an additional inspection or corrective actions. This new action revises the proposed rule by adding a terminating action and removing certain airplanes from the applicability. The actions specified by this new proposed AD are intended to prevent incorrect operation or jamming of the nose wheel steering, which could cause reduced controllability of the airplane on the ground. This action is intended to address the identified unsafe condition.

DATES: Comments must be received by September 5, 2006.

ADDRESSES: Submit comments in triplicate to the Federal Aviation Administration (FAA), Transport Airplane Directorate, ANM-114, Attention: Rules Docket No. 2001-NM-381-AD, 1601 Lind Avenue, SW., Renton, Washington 98057-3356. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2001-NM-381-AD” in the subject line and need not be submitted in triplicate. Comments sent via the Internet as attached electronic files must be formatted in Microsoft Word 97 or 2000 or ASCII text.

For the service information referenced in the proposed rule, contact Airbus, 1 Rond Point Maurice Bellonte, 31707 Blagnac Cedex, France. This information may be examined at the FAA, Transport Airplane Directorate, 1601 Lind Avenue, SW., Renton, Washington.

FOR FURTHER INFORMATION CONTACT: Tim Backman, Aerospace Engineer, International Branch, ANM-116, FAA, Transport Airplane Directorate, 1601 Lind Avenue, SW., Renton, Washington 98055-4056; telephone (425) 227-2797; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit Comments Using the Following Format

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2001-NM-381-AD.” The postcard will be date stamped and returned to the commenter.

Availability of NPRMs

Any person may obtain a copy of this NPRM by submitting a request to the FAA, Transport Airplane Directorate, ANM-114, Attention: Rules Docket No. 2001-NM-381-AD, 1601 Lind Avenue, SW., Renton, Washington 98055-4056.

Discussion

A proposal to amend part 39 of the Federal Aviation Regulations (14 CFR part 39) to add an airworthiness directive (AD), applicable to all Airbus Model A330, A340-200, and A340-300 series airplanes, was published as a notice of proposed rulemaking (NPRM) in the Federal Register on June 16, 2004 (69 FR 33592). That original NPRM would have required repetitive detailed inspections for discrepancies of the grease and gear teeth of the radial variable differential transducer (RVDT) of the nose wheel steering (NWS) gearbox; or repetitive detailed inspections for damage of the chrome on the bearing surface of the nose landing gear (NLG) main fitting barrel; as applicable. For airplanes with any discrepancy or damage, the original NPRM would have required an additional inspection or corrective actions.

The original NPRM was prompted by a report from the Direction Générale de l'Aviation Civile (DGAC), which is the airworthiness authority for France, of the failure of the NWS system on a Model A340 airplane. Problems associated with this failure, if not corrected, could result in incorrect operation or jamming of the NWS, and reduced controllability of the airplane on the ground.

Actions Since Issuance of Previous Proposal

The original NPRM was intended to address the unsafe condition identified in French airworthiness directives 2001-503(B) and 2001-504(B). Since we issued that NPRM, the DGAC has cancelled those airworthiness directives and issued new rulemaking on this subject to add a terminating action and remove airplanes modified in production.

Explanation of New Service Information

Airbus has issued the following Airbus service bulletins:

Service Bulletins
Action | Airbus service bulletin | Airplane models | Messier-Dowty service bulletins referred to in Airbus service bulletins
Repetitive inspections | A330-32-3134, Revision 03, dated May 11, 2005, and Revision 04, dated April 3, 2006 | A330-200 and -300 series airplanes | Special Inspection Service Bulletins D23285-32-037, Revision 2, dated May 23, 2002; and D23285-32-044, dated January 12, 2004.
| A340-32-4172, Revision 03, dated May 11, 2005, and Revision 04, dated April 3, 2006 | A340-200 and -300 series airplanes | Special Inspection Service Bulletins D23285-32-037, Revision 2, dated May 23, 2002; and D23285-32-044, dated January 12, 2004.
Modification | A330-32-3164, dated June 27, 2003, and Revision 01, dated March 21, 2006 | A330-200 and -300 series airplanes | Service Bulletin D23285-32-042, dated June 19, 2003.
| A340-32-4204, dated June 27, 2003, and Revision 01, dated March 21, 2006 | A340-200 and -300 series airplanes | Service Bulletin D23285-32-042, dated June 19, 2003.
Modification | A330-32-3192, dated December 8, 2005 | A330-200 and -300 series airplanes | Service Bulletin D23581-32-047, dated December 1, 2005.
| A340-32-4227, dated December 8, 2005 | A340-200 and -300 series airplanes | Service Bulletin D23581-32-047, dated December 1, 2005.

Service Bulletins A330-32-3134 and A340-32-4172, both Revision 02, both dated August 8, 2003, were described in the original NPRM. Revisions 03 and 04 of these service bulletins provides minor changes only; the procedures remain essentially unchanged.

Service Bulletins A330-32-3164 and A340-32-4204 describe an inspection to identify the suffix number on the NLG leg assembly. For affected leg assemblies, the service bulletins also describe procedures for a modification that will improve the sealing between the RVDT gearboxes and the NLG steering collar to help prevent contamination of the RVDT gearboxes and the NLG main fitting. The modification involves replacing the RVDT drive gear ring and the housing of the NLG steering gear ring.

Service Bulletins A330-32-3192 and A340-32-4227 describe an inspection to identify the suffix number on the NLG leg assemblies. For affected leg assemblies, the service bulletins also describe procedures for an NLG modification that will reduce wear and damage of the reinforced NLG steering collar and NLG main fitting. The modification involves adding two grease points and new bushes with revised grease paths, which will allow better grease distribution into the steering collar assembly. The modification also involves increasing the internal diameter tolerances of the steering collar, which will reduce the risk of contact between the steering collar and the main fitting at low temperature.

Accomplishing both modifications described in Airbus Service Bulletins A330-32-3164, A340-32-4204, A330-32-3192, and A340-32-4227, as applicable, eliminates the need for the repetitive inspections.

Accomplishing the actions specified in the service information described above is intended to adequately address the unsafe condition. The DGAC mandated the service information and issued French airworthiness directives F-2005-209 and F-2005-210, both dated December 21, 2005, to ensure the continued airworthiness of these airplanes in France.

FAA's Determination

In light of the DGAC's new rulemaking and the corresponding revised service bulletins described above, we have revised the supplemental NPRM to refer to the new information.

Comments

Interested persons have been afforded an opportunity to participate in the making of this amendment. Due consideration has been given to the comments received.

Support for the Proposed AD

One commenter, U.S. Airways, supports the original NPRM and the flexibility it offers in allowing operators the option of either inspecting the bearing surface or analyzing a grease sample. The commenter observes that this flexibility will allow operators to choose the inspection method and interval that best suit their maintenance schedules.

Request To Clarify Inspection Conditions

Paragraphs (b), (c), and (d) of the original NPRM specify inspection requirements and compliance times based on accomplishment of Airbus Modification 51381. The procedures for the modification are described in Airbus Service Bulletins A330-32-3164 and A340-32-4204. One commenter, Airbus, suggests that identifying those service bulletins in the AD would help operators define the configuration of their airplanes to determine the relevant inspections.

We infer that Airbus is requesting that we exclude from the AD applicability those airplanes on which the modification service bulletins have been accomplished in service. We disagree with the request. Although the applicability of French airworthiness directives F-2005-209 and F-2005-210 excludes airplanes on which Airbus Service Bulletins A340-32-4204 and A330-32-3164 (as well as A340-32-4227 and A330-32-3192) were done in service, the applicability of this supplemental NPRM does not exclude those airplanes. This supplemental NPRM would instead require the applicable modification(s) for airplanes with affected NLG leg assemblies, as specified in those service bulletins. This requirement would ensure that the applicable actions specified in the service bulletins and proposed in this supplemental NPRM are accomplished for all affected airplanes.

Request To Revise Inspection Requirement for Certain Conditions

Paragraph (d)(1) of the original NPRM specifies detailed inspections for discrepancies of the grease and gear teeth. One commenter, Airbus, states that operators cannot do a detailed inspection, as that term is defined in the original NPRM, of the grease because the associated service information instead specifies that the grease sample be sent to a laboratory for analysis. (This procedure is described in the secondary service bulletin, Messier-Dowty Special Inspection Service Bulletin D23285-32-037, for airplanes without Airbus Modification 51381 installed in production.) The commenter requests that we revise paragraph (d)(1) of the original NPRM to require a detailed inspection only of the gear teeth, which would be in line with the wording and instructions of the applicable service bulletins.

Another commenter, Northwest Airlines, requests that we revise the original NPRM to clarify that it would require only a detailed inspection —not a lab analysis—of the grease.

We partially agree. We agree that the inspection of the grease and the inspection of the gear teeth are different types of actions. And we agree with Airbus that a detailed inspection of the grease is not the appropriate terminology. But paragraph 2.B. of the Accomplishment Instructions of Messier-Dowty Special Inspection Service Bulletin D23285-32-037 specifies a grease “inspection,” which involves an analysis of the grease by sending grease samples to a lab for inspection and determination of further actions. We have revised the proposed requirement (paragraph (a)(1) in this supplemental NPRM) to distinguish an “inspection” of the grease (sending the grease to a laboratory for analysis) from a “detailed inspection” of the gear teeth. We disagree with Northwest Airlines' request to clarify that only a detailed inspection is required. As previously discussed, the AD requires two separate actions: A detailed inspection of the gear teeth and an inspection of the grease. The grease inspection specified in the Accomplishment Instructions involves analysis of the grease sample either by Messier-Dowty or another lab. We have not changed the final rule regarding this issue.

Request To Cite Latest Service Information

One commenter, Northwest Airlines, requests that we revise the original NPRM to refer to the latest revision of Messier-Dowty Special Inspection Service Bulletin D23285-32-037, which is Revision 2, dated May 23, 2002.

As revised, the service bulletin provides for the grease analysis to be done at a lab chosen by the operator; however, a reporting form with results must be returned to Messier-Dowty. Likewise, this supplemental NPRM would provide for the option that the grease analysis be done at a lab chosen by the operator with the results to be evaluated by Messier-Dowty. Note 2 in this supplemental NPRM refers to Revision 2 of the service bulletin.

Request To Define Allowable Grease Particle Content

One commenter, U.S. Airways, which operates Model A330 airplanes, notes that there are no allowable limits for the grease particle content provided in Airbus Service Bulletin A330-32-3134 or Messier-Dowty Special Inspection Service Bulletin D23285-32-037. The original NPRM would allow only Messier-Dowty to do the grease sample analysis. The commenter requests that we revise the original NPRM to define acceptable grease particle content and permit operators to use alternative lab facilities to analyze the grease.

We partially agree with the requests. As stated previously, Messier-Dowty Special Inspection Service Bulletin D23285-32-037 was revised to provide for the grease analysis to be done at a lab chosen by the operator. However, the criteria for acceptable grease particle content are complex and not appropriate to include in this supplemental NPRM. The grease analysis process includes establishing reference spectra for new grease samples, establishing the spectra for each grease sample taken, comparing the sample spectra to the reference, and identifying polluting agents. The allowable pollutant constituents, their allowable size and weights, and specification of the acceptable ranges for constituent concentrations of the grease when compared to the reference would greatly increase the complexity of this supplemental NPRM. Therefore, we have determined that it is necessary for operators to send the results to Messier-Dowty for evaluation.

Request To Revise Compliance Time for Analysis

As stated previously, Messier-Dowty Special Inspection Service Bulletin D23285-32-037 specifies sending grease samples to Messier-Dowty for analysis. If the grease sample analysis indicates any discrepancy, paragraph (d)(1) of the original NPRM would require a detailed inspection of the bearing surface within 3 months. One commenter, U.S. Airways, questions whether the 3-month period should be counted from the day the grease sample was taken or the day the results were provided to the operator. The commenter requests that we revise the original NPRM to specifically require the bearing surface inspection within 3 months after Messier-Dowty advises operators of discrepant results. According to the commenter, this suggested compliance time would avoid problems associated with the possible lag time between the time the operator sends a sample to the manufacturer and the time the operator receives the results. If an extended time is required for the analysis, operators may be required to inspect the bearing surface without adequate planning time.

We do not agree with the request. We have determined that the bearing surface must be inspected within 3 months after the initial inspections of the grease and teeth. However, as previously stated, operators have their option of laboratories for the grease analysis, which could effectively lessen the impact on Messier-Dowty and decrease the lag time between submitting samples and receiving results. In addition, operators may request an extension of this time, in accordance with paragraph (j) of this supplemental NPRM, if data are supplied that will ensure the continued operational safety of the fleet pending receipt of the lab analysis. We have not changed this proposed requirement (paragraph (a)(1) in this supplemental NPRM).

Request To Clarify Inspection Requirements

One commenter, Airbus, considers that paragraph (e) of the original NPRM could be interpreted as requiring the same type of inspection at each interval. The commenter notes that Airbus Service Bulletins A330-32-3134 and A340-32-4172 offer operators the option of inspecting either the grease and gear teeth or the chrome on the bearing surface of the NLG main fitting barrel under the NWS rotating sleeve at the next inspection, within the applicable compliance times. The commenter requests that we clarify the repetitive inspection requirement.

We agree that clarification is necessary. For each subsequent repetitive inspection, operators have the option of doing either inspection—regardless of the most recent inspection type performed, provided subsequent inspections are done within the specified intervals. The revisions in paragraph (c) in this supplemental NPRM are intended to clarify this issue.

Request To Clarify Inspection Compliance Time

One commenter, Northwest Airlines, requests that we clarify the compliance times for the initial inspection in the original NPRM. The commenter suggests the following language: “If the NLG is more than 5 years old (since new or overhauled), accomplish the inspection within 700 flight hours of the effective date of the AD.” The commenter states that this will agree with Airbus Service Bulletin A330-32-3134.

We do not agree. The commenter's requested change would allow additional time for some airplanes. We have determined that the compliance times, as proposed, will ensure an acceptable level of safety. We have not changed this supplemental NPRM regarding this issue.

Request To Revise Cost Estimate

The Cost Impact section of the original NPRM states that the chrome inspection (on the bearing surface under the rotating sleeve) would take about 2 work hours, and the grease and gear teeth inspection (on the RVDT ring) would take about 8 work hours. One commenter, Northwest Airlines, states that these estimates do not agree with those specified in the service information:

• For the chrome inspection, Airbus Service Bulletin A330-32-3134 specifies 17 work hours to inspect, including 9 hours to prepare, test, and close up; and Messier-Dowty Service Bulletin D23285-32-037 specifies 8 work hours to inspect the bearing surface.

• For the grease inspection, Airbus Service Bulletin A330-32-3134 (and A340-32-4172) specifies 10 work hours to inspect, including 8 hours to prepare, test, and close up; and Messier-Dowty Service Bulletin D23285-32-037 specifies 2 work hours to inspect the grease and gear teeth.

The commenter states that the differences between the work hours for actual and incidental tasks will significantly affect the planning and scheduling of these inspection tasks.

We partially agree with the commenter's interepretation of the service bulletin labor estimates. We have included work hours for post-inspection test preparation and tests. The cost estimates provided in the original NPRM generally reflect only the direct costs of the specific required actions based on the best data available from the manufacturer. We recognize that operators may incur incidental costs (such as the time for planning, access and close, and associated administrative actions) in addition to the direct costs. The cost analysis in ADs, however, typically does not include incidental costs. The compliance times in this supplemental NPRM should allow ample time for operators to do the required actions at the same time as scheduled major airplane inspection and maintenance activities, which would reduce the additional time and costs associated with special scheduling.

Additional Changes to Original NPRM

1. We have revised the applicability of the original NPRM to identify model designations as published in the most recent type certificate data sheet for the affected models. Although Model A330-302 and -303 airplanes have not yet been type certificated, FAA approval of these models is in process. We have changed the applicability in this supplemental NPRM to more closely parallel the effectivity section of the French airworthiness directives; the revised reference to Model A330 airplanes includes Model A330-302 and -303 airplanes.

2. We revised the inspection requirements to distinguish airplanes by configuration. Paragraphs (a) through (c) in this supplemental NPRM apply to airplanes without Airbus Modification 51381. Paragraph (d) in this supplemental NPRM applies to airplanes with the modification.

3. We have revised this action to clarify the appropriate procedure for notifying the principal inspector before using any approved AMOC on any airplane to which the AMOC applies.

4. After we issued the original NPRM, we reviewed the figures we have used over the past several years to calculate AD costs to operators. To account for various inflationary costs in the airline industry, we find it necessary to increase the labor rate used in these calculations from $65 per work hour to $80 per work hour. The cost impact information, below, reflects this increase in the specified hourly labor rate.

Conclusion

Since certain changes expand the scope of the originally proposed rule, the FAA has determined that it is necessary to reopen the comment period to provide additional opportunity for public comment.

Cost Impact

The following table provides the estimated costs for U.S. operators to comply with this supplemental NPRM.

Estimated Costs
Action | Work hours | Average labor rate per hour | Parts | Cost per airplane | Number of U.S.-registered airplanes | Fleet cost
RVDT inspection, per inspection cycle | 6 | $80 | None | $480 | 11 | $5,280.
Chrome inspection, per inspection cycle | 13 | 80 | None | $1,040 | 15 | 15,600.
Modification (Service Bulletin A330-32-3164 or A340-32-4204) | 15 | 80 | 10,244 to $11,337 | $11,444 to $12,537 | 12 | 137,328 to $150,444.
Rotating sleeve grease system modification (Service Bulletin A330-32-3192 or A340-32-4227) | 15 | 80 | Unknown | From $1,200 | 23 | From $27,600.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Airbus: Docket 2001-NM-381-AD.

Applicability: The following airplanes, certificated in any category, except those modified in production by both Airbus Modifications 51381 and 53073:

Model A330-201, -202, -203, -223, and -243 airplanes

Model A330-301, -302, -303, -321, -322, -323, -341, -342, and -343 airplanes

Model A340-211, -212, and -213 airplanes

Model A340-311, -312, and -313 airplanes

Compliance: Required as indicated, unless accomplished previously.

To prevent incorrect operation or jamming of the nose wheel steering (NWS), which could cause reduced controllability of the airplane on the ground, accomplish the following:

Inspections: Airplanes Without Modification 51381

(a) For airplanes that were not modified in production by Airbus Modification 51381: Do the inspection specified in either paragraph (a)(1) or (a)(2) of this AD, in accordance with the required service bulletin identified in Table 1 of this AD, as applicable. The required compliance time is specified in paragraph (b) of this AD.

(1) Inspect for discrepancies of the grease by sending it to a laboratory for analysis, and do a detailed inspection for discrepancies of the gear teeth of the radial variable differential transducer (RVDT) driving ring and the gears in the RVDT gearboxes. If there are no discrepancies (such as metallic particles in the grease, abnormal wear of the gear teeth, or missing rubber sealant at the mating face between the main fitting and the RVDT gearbox), repeat the inspection as specified in paragraph (c) of this AD. If there is any discrepancy, do the inspection in paragraph (a)(2) of this AD within 3 months after the inspection specified in paragraph (a)(1) of this AD.

(2) Do a detailed inspection for damage of the chrome on the bearing surface of the nose landing gear (NLG) main fitting barrel under the NWS rotating sleeve. If there is no damage (such as flaking, corrosion, or blistering), repeat the inspection as specified in paragraph (c) of this AD. If there is any damage, before further flight, do the corrective action in paragraph (e) of this AD.

Note 1: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

Table 1.—Inspection Service Bulletins
Airplane models | Airbus service bulletin | Required revision level | Approved revision level (for actions done before the effective date of the AD)
A330-200 and A330-300 series airplanes | A330-32-3134 | Revision 04, dated April 3, 2006 | Original, dated September 11, 2001. Revision 01, dated November 29, 2001. Revision 02, dated August 8, 2003. Revision 03, dated May 11, 2005.
A340-200 and A330-300 series airplanes | A340-32-4172 | Revision 04, dated April 3, 2006 | Original, dated September 11, 2001. Revision 01, dated November 29, 2001. Revision 02, dated August 8, 2003. Revision 03, dated May 11, 2005.

(b) For airplanes identified in paragraph (a) of this AD: Do the initial inspection specified in paragraph (a) of this AD at the latest of the following times:

(1) Within 60 months after the date that the new NLG was installed on the airplane.

(2) Within 60 months after the last major NLG overhaul accomplished before the effective date of this AD.

(3) Within 700 flight hours after the effective date of this AD.

(c) For airplanes identified in paragraph (a) of this AD: Repeat either inspection specified in paragraph (a)(1) or (a)(2) of this AD at intervals not to exceed the applicable interval specified in paragraph (c)(1) or (c)(2) of this AD, until the requirements of paragraph (g) of this AD are done.

(1) If the most recent inspection was the inspection specified in paragraph (a)(1) of this AD, then the next inspection must be done within 8 months.

(2) If the most recent inspection was the inspection specified in paragraph (a)(2) of this AD, then the next inspection must be done within 18 months.

Repetitive Inspections: Airplanes With Modification 51381

(d) For airplanes modified in production by Airbus Modification 51381: Perform a detailed inspection for damage of the chrome on the bearing surface of the nose landing gear (NLG) main fitting barrel under the NWS rotating sleeve. Do the inspection at the later of the times specified in paragraphs (d)(1) and (d)(2) of this AD in accordance with the applicable required service bulletin identified in Table 1 of this AD. Repeat the inspection thereafter at intervals not to exceed 18 months, until the requirements of paragraph (g) of this AD have been done.

(1) Within 60 months after the date that the new NLG was installed on the airplane.

(2) Within 60 months after the last major NLG overhaul accomplished before the effective date of this AD.

Follow-On Investigative and Corrective Actions

(e) For all airplanes: If any damage or discrepancy is found during any inspection required by this AD, do the corrective action before further flight in accordance with the applicable required Airbus service bulletin identified in Table 1 of this AD, with the following exceptions:

(1) If discrepancies are found during any inspection specified in paragraph (a)(1) of this AD, the inspection in paragraph (a)(2) of this AD is required within 3 months.

(2) Where the service bulletin recommends contacting Messier-Dowty for appropriate action: Repair before further flight in accordance with a method approved by either the Manager, International Branch, ANM-116, FAA, Transport Airplane Directorate; or the Direction Generale de l'Aviation Civile (DGAC) (or its delegated agent).

Note 2: Airbus Service Bulletins A330-32-3134 and A340-32-4172 refer to Messier-Dowty Special Inspection Service Bulletins D23285-32-037, Revision 2, dated May 23, 2002; and D23285-32-044, dated January 12, 2004; as additional sources of service information for the inspections.

Credit for Prior Accomplishment

(f) Actions done before the effective date of this AD in accordance with an applicable Approved Revision Level of the service bulletin identified in Table 1 of this AD are acceptable for compliance with the corresponding requirements of paragraphs (a), (d), and (e) of this AD.

Modification

(g) For all airplanes: At the applicable time specified in paragraph (g)(1) or (g)(2) of this AD, modify the NLG as specified in Table 2 of this AD, as applicable.

(1) For NLGs overhauled before the effective date of this AD: At the later of the times specified in paragraphs (g)(1)(i) and (g)(1)(ii) of this AD:

(i) Within 60 months since the NLG was overhauled or 180 months since the NLG was new, whichever occurs first.

(ii) Within 6 months after the effective date of this AD.

(2) For NLGs not overhauled before the effective date of this AD: Within 120 months since the NLG was new, or within 6 months after the effective date of this AD, whichever occurs later.

Table 2.—Modification
For airplanes— | Modify the NLG in accordance with—
Without Airbus Modifications 51381 and 53073 done in production | Both Airbus Service Bulletins A330-32-3164, dated June 27, 2003, or Revision 1, dated March 21, 2006; and A330-32-3192, dated December 8, 2005; Or both Airbus Service Bulletins A340-32-4204, dated June 27, 2003, or Revision 1, dated March 21, 2006; and A340-32-4227, dated December 8, 2005.
With Airbus Modification 51381 but not Airbus Modification 53073 done in production | Airbus Service Bulletin A330-32-3192, dated December 8, 2005; or A340-32-4227, dated December 8, 2005.
With Airbus Modification 53073 but not Airbus Modification 51381 done in production | Airbus Service Bulletin A330-32-3164, dated June 27, 2003, or Revision 01, dated March 21, 2006; or A340-32-4204, dated June 27, 2003, or Revision 01, dated March 21, 2006.

Terminating Action

(h) Accomplishment of both NLG modifications specified in paragraph (g) of this AD terminates the repetitive inspection requirements of this AD.

Note 3: Airbus Service Bulletins A330-32-3164 and A340-32-4204 refer to Messier-Dowty Service Bulletin D23285-32-042, dated June 19, 2003, as an additional source of service information for the modification.

Note 4: Airbus Service Bulletins A330-32-3192 and A340-32-4227 refer to Messier-Dowty Service Bulletin D23581-32-047, dated December 1, 2005, as an additional source of service information for the modification.

Reporting

(i) Certain service bulletins specify to submit a report to the manufacturer. This AD does not require a report, unless the grease analysis required by paragraph (a)(1) of this AD is done at a lab chosen by the operator, which requires the results to be evaluated by Messier-Dowty.

Alternative Methods of Compliance

(j)(1) In accordance with 14 CFR 39.19, the Manager, International Branch, ANM-116, is authorized to approve alternative methods of compliance for this AD.

(2) Before using any AMOC approved in accordance with 14 CFR 39.19 on any airplane to which the AMOC applies, notify the appropriate principal inspector in the FAA Flight Standards Certificate Holding District Office.

Note 5: The subject of this AD is addressed in French airworthiness directives F-2005-209 and F-2005-210, both dated December 21, 2005.

Issued in Renton, Washington, on July 31, 2006.
Ali Bahrami,
Manager, Transport Airplane Directorate, Aircraft Certification Service.

[FR Doc. E6-12834 Filed 8-7-06; 8:45 am]

BILLING CODE 4910-13-P